DEPARTMENT OF TRANSPORTATION

Federal Aviation Administration

14 CFR Part 39

[Docket No. FAA-2025-0907; Project Identifier MCAI-2024-00634-T; Amendment 39-23104; AD 2025-16-06]

RIN 2120-AA64

Airworthiness Directives; Airbus SAS Airplanes

AGENCY: Federal Aviation Administration (FAA), DOT.

ACTION: Final rule.

SUMMARY: The FAA is adopting a new airworthiness directive (AD) for certain Airbus SAS Model A319-112 and -132 airplanes, and Model A320-214, -232, -233, -251N, and -271N airplanes. This AD was prompted by rivet holes being left unplugged after bracket relocation or removal accomplished during certain modifications, potentially resulting in fatigue damage starting from those rivet holes. This AD requires a one-time special detailed inspection (SDI) of the rivet holes and applicable corrective actions; and allows the installation of certain modifications, provided rivets are installed after the modification. The FAA is issuing this AD to address the unsafe condition on these products.

DATES: This AD is effective September 22, 2025.

The Director of the Federal Register approved the incorporation by reference of a certain publication listed in this AD as of September 22, 2025.

ADDRESSES:

AD Docket: You may examine the AD docket at regulations.gov under Docket No. FAA-2025-0907; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0907.

FOR FURTHER INFORMATION CONTACT: Nathan Weigand, Aviation Safety Engineer, FAA, 2200 South 216th St., Des Moines, WA 98198; telephone 206-231-3531; email nathan.p.weigand@faa.gov.

SUPPLEMENTARY INFORMATION:

Background

The FAA issued a notice of proposed rulemaking (NPRM) to amend 14 CFR part 39 by adding an AD that would apply to certain Airbus SAS Model A319-112 and -132 airplanes, and Model A320-214, -232, -233, -251N, and -271N airplanes. The NPRM was published in the Federal Register on May 19, 2025 (90 FR 21247). The NPRM was prompted by AD 2024-0204, dated October 22, 2024, issued by EASA, which is the Technical Agent for the Member States of the European Union (EASA AD 2024-0204) (also referred to as the MCAI). The MCAI states that rivet holes were left unplugged after bracket relocation or removal, potentially resulting in fatigue damage starting from those rivet holes and consequent reduced structural integrity of the airplane. The rivet holes were left unplugged due to certain optional modification material not providing instructions to reinstall rivets after removing brackets.

In the NPRM, the FAA proposed to require a one-time SDI of the rivet holes and applicable corrective actions; and to allow the installation of certain modifications, provided rivets are installed after the modification, as specified in EASA AD 2024-0204. The FAA is issuing this AD to address this condition, which if not detected and corrected, could affect the structural integrity of the airplane.

You may examine the MCAI in the AD docket at regulations.gov under Docket No. FAA-2025-0907.

Discussion of Final Airworthiness Directive

Comments

The FAA received no comments on the NPRM or on the determination of the cost to the public.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0204, which specifies procedures for a one-time SDI of the rivet holes for any discrepancy (missing or incorrect rivets and cracks) and, depending on findings, accomplishment of applicable corrective actions (i.e., repairing cracks, obtaining instructions for addressing incorrect rivets, and installing oversized rivets). For airplanes that have not installed certain optional modifications, EASA AD 2024-0204 allows installing an optional modification, provided that rivets are installed after the modification. This material is reasonably available because the interested parties have access to it through their normal course of business or by the means identified in the ADDRESSES section.

Costs of Compliance

The FAA estimates that this AD affects 289 airplanes of U.S. registry. The FAA estimates the following costs to comply with this AD:

Estimated Costs for Required Actions
Labor cost | Parts cost | Cost per product | Cost on U.S. operators
Up to 8 work-hours × $85 per hour = $680 | Minimal | $680 | Up to $196,520.

The FAA has received no definitive data on which to base the cost estimates for the on-condition actions specified in this AD.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-16-06 Airbus SAS: Amendment 39-23104; Docket No. FAA-2025-0907; Project Identifier MCAI-2024-00634-T.

(a) Effective Date

This airworthiness directive (AD) is effective September 22, 2025.

(b) Affected ADs

None.

(c) Applicability

This AD applies to Airbus SAS airplanes identified in paragraphs (c)(1) and (2) of this AD, certificated in any category, as identified in European Union Aviation Safety Agency (EASA) AD 2024-0204, dated October 22, 2024 (EASA AD 2024-0204).

(1) Model A319-112 and -132 airplanes.

(2) Model A320-214, -232, -233, -251N, and -271N airplanes.

(d) Subject

Air Transport Association (ATA) of America Code 53, Fuselage.

(e) Unsafe Condition

This AD was prompted by rivet holes being left unplugged after bracket relocation or removal accomplished during certain modifications, potentially resulting in fatigue damage starting from those rivet holes. The FAA is issuing this AD to address this condition, which, if not detected and corrected, could affect the structural integrity of the airplane.

(f) Compliance

Comply with this AD within the compliance times specified, unless already done.

(g) Requirements

Except as specified in paragraphs (h) and (i) of this AD: Comply with all required actions and compliance times specified in, and in accordance with, EASA AD 2024-0204.

(h) Exceptions to EASA AD 2024-0204

(1) Where EASA AD 2024-0204 refers to its effective date, this AD requires using the effective date of this AD.

(2) Where EASA AD 2024-0204 refers to “discrepancies,” this AD defines discrepancies as missing or incorrect rivets and cracks.

(3) Where paragraph (2) of EASA AD 2024-0204 specifies “within the compliance time identified therein,” this AD requires replacing that text with “before further flight”.

(4) Where paragraph (3) of EASA AD 2024-0204 specifies “it is allowed to modify an aeroplane in accordance with the instructions of any modification SB provided that, before next flight after that modification, rivets are installed” this AD requires replacing that text with “for airplanes on which an applicable modification SB has been accomplished in service, before further flight following modification, rivets must be installed”.

(5) This AD does not adopt the “Remarks” section of EASA AD 2024-0204.

(i) No Reporting Requirement

Although the material referenced in EASA AD 2024-0204 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraphs (i) and (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Nathan Weigand, Aviation Safety Engineer, FAA, 2200 South 216th St., Des Moines, WA 98198; telephone 206-231-3531; email nathan.p.weigand@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0204, dated October 22, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on August 4, 2025.
Peter A. White,
Deputy Director, Integrated Certificate Management Division, Aircraft Certification Service.

[FR Doc. 2025-15685 Filed 8-15-25; 8:45 am]

BILLING CODE 4910-13-P